DEPARTMENT OF HOMELAND SECURITY

U.S. Citizenship and Immigration Services

[CIS No. 2384-06; DHS Docket No. USCIS-2006-0048]

RIN 1615-ZA39

Termination of the Designation of Liberia for Temporary Protected Status; Automatic Extension of Employment Authorization Documentation for Liberia TPS Beneficiaries

AGENCY: U.S. Citizenship and Immigration Services, Department of Homeland Security.

ACTION: Notice of termination of temporary protected status for Liberia.

SUMMARY: Following a review of country conditions and consultations with the appropriate Government agencies, the Secretary of the Department of Homeland Security (DHS) has determined that the temporary protected status (TPS) designation of Liberia should be terminated. This termination will not take effect until October 1, 2007, to provide for an orderly transition. This Notice informs the public of the termination of the Liberia TPS designation and sets forth procedures for nationals of Liberia (or aliens having no nationality who last habitually resided in Liberia) with TPS to re-register for TPS benefits. Re-registration is limited to persons who have previously registered for TPS under the designation of Liberia and whose application was granted or remains pending. Liberians (or aliens having no nationality who last habitually resided in Liberia) who have not previously been granted TPS, or who do not already have a pending application for TPS under the designation for Liberia, may not file under late initial filing provisions. Late initial filings (LIFs) are only allowed during an extension of a designation of TPS.

Given the timeframes involved with processing TPS re-registrants, DHS recognizes that re-registrants might not receive a new EAD until after their current EAD expires on October 1, 2006. Accordingly, this Notice automatically extends the validity of EADs issued under the designation of TPS for Liberia for six months through April 1, 2007, and explains how TPS beneficiaries and their employers may determine which EADs are automatically extended. New EADs with an expiration date of September 30, 2007, will be issued to eligible TPS beneficiaries who timely re-register and apply for an EAD.

DATES: Effective Dates: The termination of Liberia's TPS designation is effective 12:01 a.m., local time, October 1, 2007. To maintain TPS benefits through the 12 months leading up to the effective date of the termination, Liberian TPS beneficiaries must comply with the re-registration requirements described in this Notice. The 60-day re-registration period begins September 20, 2006 and ends November 20, 2006.

FOR FURTHER INFORMATION CONTACT: Matthew Horner, Status and Family Branch, Service Center Operations, U.S. Citizenship and Immigration Services, Department of Homeland Security, 20 Massachusetts Avenue, NW., 2nd Floor, Washington, DC 20529, telephone (202) 272-1505. This is not a toll free number.

SUPPLEMENTARY INFORMATION:

Abbreviations and Terms Used in This Document

Act—Immigration and Nationality Act

ASC—USCIS Application Support Center

DHS—Department of Homeland Security

DOS—Department of State

EAD—Employment Authorization Document

Secretary—Secretary of Homeland Security

TPS—Temporary Protected Status

USCIS—U.S. Citizenship and Immigration Services

What authority does the Secretary of Homeland Security have to terminate the designation of TPS for Liberia?

Section 244(b)(1) of the Immigration and Nationality Act (Act), 8 U.S.C. 1254a(b) authorizes the Secretary of Homeland Security, after consultation with appropriate agencies of the Government, to designate a foreign state (or part thereof) for TPS. The Secretary may then grant TPS to eligible nationals of that foreign state (or aliens having no nationality who last habitually resided in that state). 8 U.S.C. 1254a(a)(1)(A).

At least 60 days before the expiration of the TPS designation, or any extension thereof, the Secretary, after consultation with appropriate agencies of the Government, must review the conditions in a foreign state designated for TPS to determine whether the conditions for the TPS designation continue to be met. 8 U.S.C. 1254a(b)(3)(A). If the Secretary determines that the foreign state no longer meets the conditions for the TPS designation, he must terminate the designation. Such termination may not take effect earlier than 60 days after the date the Notice of termination is published in the Federal Register. 8 U.S.C. 1254a(b)(3)(B). The Secretary may determine the appropriate effective date of the termination for the purpose of providing an orderly transition. 8 U.S.C. 1254a(b)(3)(B); 8 U.S.C. 1254a(d)(3).

Why did the Secretary decide to terminate the designation of Liberia for TPS?

On August 25, 2004, the Secretary of Homeland Security published a Notice in the Federal Register at 63 FR 52297 re-designating Liberia for TPS due to “extraordinary and temporary conditions” caused by the past armed conflict that prevented aliens from returning to Liberia in safety. The Secretary announced an extension of this TPS designation on August 16, 2005, determining that the conditions warranting such designation continued to be met. 70 FR 48176.

Over the past year, DHS and the Department of State (DOS) have continued to review conditions in Liberia. Based on this review, DHS has determined that the TPS designation of Liberia should be terminated because the extraordinary and temporary conditions that formed the basis of the designation have improved such that they no longer prevent Liberians (or aliens having no nationality who last habitually resided in Liberia) from returning to their home country in safety.

The uncertain situation that characterized the immediate aftermath of the armed conflict's end and the temporary and extraordinary conditions caused by the long war have improved. With the assistance of a large and robust peacekeeping mission, Liberia is now entering a long-term phase of reconstruction and rehabilitation and there exists a democratically-elected government with the capacity to accept the return of its nationals. Indeed, the United Nations High Commissioner for Refugees (UNHCR) decided in February 2006 to shift its policy from “facilitating” to “promoting” the voluntary repatriation of Liberian refugees based on the existence of conditions for refugees to return in “safety and dignity.” (UNHCR Briefing Notes, “Liberia: UNHCR to promote voluntary repatriation following positive changes,” February 17, 2006). Further, UNHCR has withdrawn its recommendation (put forward last year) in favor of a moratorium on forced returns of rejected Liberian asylum-seekers stating that, in regard to individuals found not to be eligible for refugee status under the 1951 Convention or OAU Convention, as applicable, UNHCR would have no objection to their possible return to Liberia. (UNHCR Position on International Protection Needs of Asylum-Seekers from Liberia, March 31, 2006). While much remains to be done after years of armed conflict and the destruction and neglect that accompanied it, UNHCR organized the return of more than 50,000 Liberian refugees as of April 2006. More than 151,000 Liberians refugees have returned spontaneously due to the cessation of hostilities and presence of UN peacekeeping troops. Nearly 300,000 internally displaced persons (IDPs) have also returned. While the situation remains fragile, progress has been made in Liberia and a majority of the objectives in the Government of Liberia's 150-day Action Plan are either on track to be completed or due to commence shortly.

Based upon this review, the Secretary, after consultation with appropriate Government agencies, determined that the extraordinary and temporary conditions that prompted the re-designation of Liberia for TPS no longer prevent Liberians (or aliens having no nationality who last habitually resided in Liberia) from returning to their home country in safety, and that the designation of Liberia for TPS should be terminated. See 8 U.S.C. 1254a(b)(3)(A) (describing procedures for periodic review of TPS designations); 8 U.S.C. 1254a(b)(3)(B) (describing procedures for terminating a TPS designation).

If I currently have benefits through the TPS designation of Liberia and would like to maintain those benefits until the effective date of the termination (October 1, 2007), do I need to re-register for TPS?

Yes. If you already have received TPS benefits through the designation of Liberia for TPS, your benefits will expire on October 1, 2006. All Liberian TPS beneficiaries must comply with the re-registration requirements described below to maintain TPS benefits through September 30, 2007. TPS benefits include temporary protection against removal from the United States, as well as employment authorization, during the TPS designation period. 8 U.S.C. 1254a(a)(1), 1254a(f). Failure to re-register without good cause will result in the withdrawal of your temporary protected status and possibly your removal from the United States. 8 U.S.C. 1254a(c)(3)(C). TPS beneficiaries who fail, without good cause, to re-register on time will not be issued a new EAD valid through September 30, 2007.

If I am currently registered for TPS or have a pending application for TPS, how do I re-register to renew my benefits until the effective date of the termination (October 1, 2007)?

All persons previously granted TPS under the designation of Liberia who would like to maintain such status and those whose applications remain pending but who wish to renew their benefits, must re-register by filing the following:

(1) Form I-821, Application for Temporary Protected Status, without fee;

(2) Form I-765, Application for Employment Authorization (see the chart below to determine whether you must submit the one hundred and eighty dollar ($180) filing fee with Form I-765 (for which a fee waiver may be requested));

(3) A biometric services fee of seventy dollars ($70) if you are 14 years of age or older, or if you are under 14 and requesting an EAD extension. The biometric services fee will not be waived. 8 CFR 103.2(e)(4)(i), (iii); and

(4) A photocopy of the front and back of your EAD if you received an EAD during the most recent registration period.

When filing Form I-821, it is important to place your Alien Registration Number on your application. You may find your Alien Registration Number, also known as your “A Number,” listed below your name on your EAD. In addition, please note that you do not need to submit photographs with your TPS application because a photograph will be taken, if needed, when you appear at an USCIS Application Support Center (ASC) for collection of biometrics.

Aliens who have previously registered for TPS but whose applications remain pending should follow these instructions if they wish to renew their TPS benefits. All TPS re-registration applications submitted without the required fees will be returned to the applicants.

What edition of the Form I-821 should be submitted?

Form I-821 has been revised. Only Forms I-821 with revision dates of November 5, 2004 or later will be accepted. The revision date can be found on the bottom right corner of the form. Submissions of older versions of Form I-821 will be rejected. You may obtain immigration forms, free of charge, on the Internet at http://www.uscis.gov or by calling the USCIS forms hotline at 1-800-870-3676.

Who must submit the $180 filing fee for the Form I-765, Application for Employment Authorization?

If | Then
You are applying for an extension of your EAD valid through September 30, 2007 | You must complete and file the Form I-765, Application for Employment Authorization, with the $180 fee.
You are not applying for an extension of your EAD | You must complete and file Form I-765 (for data-gathering purposes only) with no fee.
You are applying for an extension of your EAD and are requesting a fee waiver | You must complete and file: (1) Form I-765 and (2) a fee waiver request and affidavit (and any other supporting information) in accordance with 8 CFR 244.20.

Applicants who are only seeking to re-register for TPS and are not requesting an EAD or applying for an extension of their EAD should not check any of the following boxes on the I-765 (Application for Employment Authorization) in response to the question “I am applying for:”

Permission to accept employment;

Replacement (of lost employment authorization document);

Renewal of my permission to accept employment (attach previous employment authorization document).

If a TPS applicant is not applying for an EAD and he or she incorrectly checks any of these boxes without submitting a $180 fee with his or her Form I-765, the processing of their application may be delayed.

Who must submit the $70 biometric services fee?

The $70 biometric services fee must be submitted by all aliens 14 years of age and older who: (1) Have previously been granted TPS and are now re-registering for TPS; or (2) have an initial application for TPS currently pending, have an EAD bearing the notification “C-19” on the face of the card under “Category” and wish to renew temporary treatment benefits. In addition, any alien, including one who is under the age of 14, choosing to apply for a new EAD or an extension of an EAD must submit the $70 biometric services fee. This biometric services fee will not be waived. 8 CFR 103.2(e)(4)(i), (iii).

When should I submit my re-registration application for TPS?

Applications must be filed during the 60-day re-registration period from September 20, 2006 until November 20, 2006. You are encouraged to file the application as soon as possible after the start of the 60-day re-registration period.

Where should I submit my re-registration application for TPS?

To facilitate efficient processing, USCIS has designated two post office (P.O.) boxes with the Chicago Lockbox for the filing of TPS applications. The type of TPS re-registration application you submit will determine the P.O. Box where your application must be submitted. Certain applications for TPS re-registration may also be electronically filed or “E-Filed.” See below for further filing instructions. Please note that applications should not be filed with a USCIS Service Center or District Office. Failure to file your application properly may delay the processing of your application.

Category 1: Applications for re-registration that do not require the submission of additional documentation and applications to renew temporary treatment benefits must either be electronically filed (“E-Filed”) (see below) or filed at this address: U.S. Citizenship and Immigration Services, P.O. Box 6943, Chicago, IL 60680-6943.

Or, for non-United States Postal Service (USPS) deliveries: U.S. Citizenship and Immigration Services, Attn: TPS—Liberia, 427 S. LaSalle—3rd Floor, Chicago, IL 60605-1029.

E-Filing Your Application: If your application falls into Category 1, you are strongly encouraged to E-File your application. During the re-registration period from September 20, 2006 to November 20, 2006, aliens re-registering for TPS and those renewing temporary treatment benefits under this designation may electronically file Form I-821, Form I-765, and associated fees by using E-Filing at the USCIS Internet site, http://www.uscis.gov. In order to properly re-register using E-Filing, aliens must begin the E-Filing process by completing Form I-821 online. After the Form I-821 is completed, the system will then automatically link the alien to Form I-765. E-filing will only be available during the 60-day re-registration period. Attempts to E-file after the re-registration period ends November 20, 2006 will not be accepted. Aliens whose application falls into Category 2 (explained below) may not E-File and must send their application materials to the USCIS Chicago Lockbox at the address listed below.

Category 2: Aliens who are filing a re-registration application that requires the submission of additional documentation cannot e-file and must file at the P.O. Box listed below: U.S. Citizenship and Immigration Services, P.O. Box 8677, Chicago, IL 60680-8677.

Or, for non-United States Postal Service (USPS) deliveries: U.S. Citizenship and Immigration Services, Attn: TPS—Liberia—[EOIR/Additional Documents], 427 S. LaSalle—3rd Floor, Chicago, IL 60605-1029.

Note: Please make sure to indicate either “EOIR” or “Additional Documents” on the “Attn:” line, as appropriate, after “Liberia,” above.

Applications for re-registration require the submission of supporting documentation under the following circumstances:

(A) If one or more of the questions listed in Part 4, Question 2 of Form I-821 apply to the alien, then the alien must submit an explanation, on a separate sheet(s) of paper, and/or additional documentation.

(B) If the alien was granted TPS by an Immigration Judge or the Board of Immigration Appeals, then the alien must include evidence of the grant of TPS (such as an order from the Executive Office for Immigration Review (EOIR)) with his or her application package.

Are certain aliens ineligible for TPS?

Yes. There are certain criminal and security-related inadmissibility grounds that render an alien ineligible for TPS. 8 U.S.C. 1254a(c)(2)(A)(iii). Further, aliens who have been convicted of any felony or two or more misdemeanors committed in the United States are ineligible for TPS, as are aliens described in the bars to asylum. 8 U.S.C. 1254a(c)(2)(B), 1158(b)(2)(A). Aliens should also note that an individual granted TPS will have his or her TPS withdrawn if the alien was not in fact eligible for TPS, fails without good cause to timely re-register, or, with some exceptions, fails to maintain continuous physical presence in the United States from the date the alien first was granted TPS. 8 U.S.C. 1254a(c)(3)(A)-(C).

Am I eligible to receive an automatic extension of my EAD from October 1, 2006, through April 1, 2007?

To receive an automatic extension of your EAD, you must be a national of Liberia (or an alien having no nationality who last habitually resided in Liberia) who has applied for and received an EAD under the TPS designation for Liberia and who has not had TPS withdrawn or denied. This automatic extension is limited to EADs (1) issued on Form I-766, Employment Authorization Document, (2) bearing an expiration date of October 1, 2006, and (3) bearing the notation “A-12” or “C-19” on the face of the card under “Category'.

If I am currently registered for TPS under the designation of Liberia and I am re-registering for TPS, how do I receive a new EAD after the six-month automatic extension expires?

TPS re-registrants will receive a notice in the mail with instructions to appear at an ASC for biometrics collection. When you report to the ASC, you must bring the following documents: (1) Your receipt notice for your re-registration application; (2) your ASC appointment notice; and (3) your current EAD. If no further action is required for your case, you will receive a new EAD, valid through September 30, 2007, through the mail. If your case requires further resolution, USCIS will contact you in writing to explain what additional information, if any, is necessary to resolve your case. If such application is approved, you will receive a new EAD in the mail with an expiration date of September 30, 2007.

May I request an interim EAD at my local District Office?

No. USCIS will not issue interim EADs to TPS applicants and re-registrants at District Offices.

How may employers determine whether an EAD has been automatically extended for six months through April 1, 2007, and is therefore acceptable for completion of the Form I-9?

For purposes of verifying identity and employment eligibility or re-verifying employment eligibility on the Form I-9 through April 1, 2007, employers of Liberian TPS beneficiaries whose EADs have been automatically extended by this Notice must accept the EAD, if it is presented and reasonably appears on its face to be genuine and to relate to the employee, as a valid “List A” document. Employers should not ask for additional Form I-9 documentation and should not request proof of Liberian citizenship. An EAD that has been automatically extended for six months by this Notice through April 1, 2007, will actually contain an expiration date of October 1, 2006, and must be a Form I-766 bearing the notation “A-12 “ or “C-19” on the face of the card under “Category.” New EADs showing the April 1, 2007, expiration date of the six-month automatic extension will not be issued.

This action by the Secretary of Homeland Security through this Federal Register Notice does not affect the right of an applicant for employment or an employee to present any legally acceptable document as proof of identity and eligibility for employment.

Employers are reminded that the laws requiring employment eligibility verification and prohibiting unfair immigration-related employment practices remain in full force. This Notice does not supersede or in any way limit applicable employment verification rules and policy guidance, including those setting forth re-verification requirements. See 8 CFR 274a.2(b)(1)(vii) (employer re-verification requirements). For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

How may employers determine an employee's eligibility for employment once the automatic extension has expired, between April 1, 2007, and the effective date of the termination of the TPS designation of Liberia on October 1, 2007?

TPS beneficiaries who successfully re-register will possess an EAD with an expiration date of September 30, 2007. This EAD must be accepted for the purposes of verifying identity and employment authorization. Employers are reminded that the laws requiring employment eligibility verification and prohibiting unfair immigration-related employment practices remain in full force, as described above.

What can an employee present to an employer for purposes of completing Form I-9, Employment Eligibility Verification?

Qualified individuals who have received a six-month extension of their EADs by virtue of this Federal Register Notice may present a TPS-based EAD to their employer, as described above, as proof of identity and employment authorization through April 1, 2007. To minimize confusion over this extension at the time of hire or re-verification, qualified individuals may also present a copy of this Federal Register Notice regarding the automatic extension of employment authorization documentation through April 1, 2007. After April 1, 2007, employees may present a new EAD valid through September 30, 2007.

As an alternative to the aforementioned options, any legally acceptable document or combination of documents listed in List A, List B, or List C of the Form I-9 may be presented as proof of identity and employment eligibility; it is the choice of the employee.

Does TPS lead to lawful permanent residence?

No. TPS is a temporary benefit that does not lead to lawful permanent residence by itself or confer any other immigration status. 8 U.S.C. 1254a(e), (f)(1), (h). When a country's TPS designation is terminated, TPS beneficiaries will maintain the same immigration status they held prior to TPS (unless that status has since expired or been terminated), or any other status they may have acquired while registered for TPS. Accordingly, if an alien held no lawful immigration status prior to being granted TPS and did not obtain any other status during the TPS period, he or she will revert to unlawful status upon the termination of the TPS designation. Once the Secretary determines that a TPS designation should be terminated, aliens who had TPS under that designation are expected to plan for their departure from the United States and may apply for other immigration benefits for which they may be eligible.

How does my TPS affect my eligibility to apply for other benefits?

TPS does not prevent an alien from applying for another immigration benefit, such as non-immigrant status, adjustment of status based on an immigrant or employment-based petition, or asylum. Likewise, the grant of another immigration status has no bearing on your TPS. 8 U.S.C. 1254a(a)(5). For the purposes of change of status and adjustment of status, an alien is considered as being in, and maintaining, lawful status as a nonimmigrant during the period in which the alien is granted TPS. 8 U.S.C. 1254a(f)(4). The grounds for denying one immigration benefit, however, may also be grounds for denying or withdrawing TPS. For example, a person who has been convicted of a particularly serious crime is not eligible for asylum or TPS. 8 U.S.C. 1158(b)(2)(A)(ii), 1254a(c)(2)(B)(ii).

Are nationals of Liberia (or aliens having no nationality who last habitually resided in Liberia) who entered the United States after October 1, 2002, eligible for TPS?

No. This Notice terminating the TPS designation for Liberia does not change the required dates of continuous residence and continuous physical presence in the United States for Liberians (or aliens having no nationality who last habitually resided in Liberia) wishing to extend their TPS benefits until the effective date of the termination (October 1, 2007). This Notice does not expand TPS eligibility beyond the current TPS requirements for the Liberia designation. To be eligible for continued benefits until the effective date of the termination of the TPS designation of Liberia, nationals of Liberia (or aliens having no nationality who last habitually resided in Liberia) must have been continuously physically present in the United States since August 25, 2004, and continuously resided in the United States since October 1, 2002.

May I register under the late initial registration provisions at this time?

No. Certain nationals of Liberia (or aliens having no nationality who last habitually resided in Liberia) who have not previously applied for TPS cannot establish eligibility for TPS under the “late initial registration” provisions. Late initial filings are only permitted during an extension of a TPS designation, pursuant to 8 CFR 244.2(f)(2), whereas the TPS designation of Liberia is being terminated. Thus, Liberians (or aliens having no nationality who last habitually resided in Liberia) who have not previously filed for TPS and been granted, or who do not already have a pending application for TPS under the designation for Liberia, may not file under late initial filing provisions. Late initial registration applications submitted to USCIS under the Liberia designation will be denied.

How does the termination of TPS affect nationals of Liberia (or aliens having no nationality who last habitually resided in Liberia) who currently receive TPS benefits?

Once the termination of Liberia's TPS designation becomes effective on October 1, 2007, these TPS beneficiaries will maintain the same immigration status they held prior to TPS (unless that status has since expired or been terminated), if any, or any other status they may have acquired while registered for TPS. Accordingly, if an alien held no lawful immigration status prior to being granted TPS and did not obtain any other status during the TPS period, he or she will revert to unlawful status upon the effective date of termination of the TPS designation (October 1, 2007).

At that time, former TPS beneficiaries will no longer be eligible for a stay of removal or employment authorization based on TPS. TPS-related EADs issued under the Liberia designation will not be renewed or extended.

Termination of the TPS designation for Liberia does not necessarily affect pending applications for other forms of immigration relief or protection. Former TPS beneficiaries, however, will begin to accrue unlawful presence as of October 1, 2007, if they have not been granted any other immigration status or protection or if they have no pending application for certain benefits. An alien is deemed to be unlawfully present in the United States if the alien is present in the United States after the expiration of the period of stay authorized or is present in the United States without being admitted or paroled. See 8 U.S.C. 1182(a)(9)(B), (C) (aliens unlawfully present).

Notice of Termination of the Designation of Liberia for TPS

By the authority vested in the Secretary of Homeland Security under section 244(b)(3) of the Act, the Secretary determined on August 2, 2006, after consulting with the appropriate Government agencies, that the conditions that prompted designation of Liberia for TPS no longer support the TPS designation. Accordingly, the Secretary orders as follows:

(1) The designation of Liberia under section 244(b)(1)(C) of the Immigration and Nationality Act is terminated effective 12:01 a.m., local time, October 1, 2007. 8 U.S.C. 1254a(b)(3)(B), (d)(3).

(2) There are approximately 3,600 nationals of Liberia (or aliens having no nationality who last habitually resided in Liberia) who have been granted TPS and who may be eligible to re-register, in accordance with the terms and conditions set forth in this Notice, for continued TPS benefits until the effective date of the termination (October 1, 2007).

(3) To maintain TPS and related benefits until the effective date of the termination (October 1, 2007), a national of Liberia (or an alien having no nationality who last habitually resided in Liberia) who was granted TPS and who has not had TPS withdrawn must re-register during the 60-day re-registration period from September 20, 2006 until November 20, 2006.

(4) To re-register, aliens must follow the aforementioned filing procedures set forth in this Notice.

Information concerning the termination of the designation of Liberia for TPS will be available at local USCIS offices upon publication of this Notice and on the USCIS Web site at http://www.uscis.gov.

Dated: September 6, 2006.
Michael Chertoff,
Secretary.

[FR Doc. 06-7785 Filed 9-18-06; 12:07 pm]

BILLING CODE 4410-10-P